DEPARTMENT OF HOUSING AND URBAN DEVELOPMENT

Office of Federal Housing Enterprise Oversight

12 CFR Part 1731

RIN 2550-AA31

Mortgage Fraud Reporting

AGENCY: Office of Federal Housing Enterprise Oversight, HUD.

ACTION: Extension of public comment period.

SUMMARY: On February 25, 2005, the Office of Federal Housing Enterprise Oversight (OFHEO) published a notice of proposed rulemaking titled “Mortgage Fraud Reporting” in the Federal Register (70 FR 9255) that would set forth safety and soundness requirements with respect to mortgage fraud reporting in furtherance of the supervisory responsibilities of OFHEO under the Federal Housing Enterprises Financial Safety and Soundness Act of 1992.

OFHEO has received requests from the Federal National Mortgage Association and the Federal Home Loan Mortgage Corporation for an extension of the current comment period deadline of March 28, 2005, to enable them to present their respective views in a manner that is as comprehensive and as helpful to OFHEO as possible. In recognition of the importance of obtaining fully developed and constructive comments as to the implications of this proposed rulemaking, OFHEO is extending the comment period for the proposed mortgage fraud reporting regulation from March 28, 2005, to April 4, 2005. The extension will ensure that all interested parties have ample opportunity to participate in the rulemaking process by providing meaningful comment in the development of the proposed regulation.

DATES: The comment period has been extended. Written comments on the proposed regulation must be received by April 4, 2005.

ADDRESSES: You may submit your comments on the proposed regulation and collection of information, identified by regulatory information number (RIN) 2550-AA31, by any of the following methods:

• U.S. Mail, United Parcel Post, Federal Express, or Other Mail Service: The mailing address for comments is: Alfred M. Pollard, General Counsel, Attention: Comments/RIN 2550-AA31, Office of Federal Housing Enterprise Oversight, Fourth Floor, 1700 G Street, NW., Washington, DC 20552.

• Hand Delivered/Courier: The hand delivery address is: Alfred M. Pollard, General Counsel, Attention: Comments/RIN 2550-AA31, Office of Federal Housing Enterprise Oversight, Fourth Floor, 1700 G Street, NW., Washington, DC 20552. The package should be logged at the Guard Desk, First Floor, on business days between 9 a.m. and 5 p.m.

• E-mail: RegComments@OFHEO.gov. Comments to Alfred M. Pollard, General Counsel, may be sent by e-mail at RegComments@OFHEO.gov. Please include RIN 2550-AA31 in the subject line of the message.

Instructions: OFHEO requests that comments to the proposed amendments include the reference RIN 2550-AA31. OFHEO further requests that comments submitted in hard copy also be accompanied by the electronic version in Microsoft® Word or in portable document format (PDF) on 3.5” disk. Please see the section, Supplementary Information, below, for additional information on the posting and viewing of comments.

FOR FURTHER INFORMATION CONTACT: Isabella W. Sammons, Associate General Counsel, telephone (202) 414-3790 (not a toll-free number); Office of Federal Housing Enterprise Oversight, Fourth Floor, 1700 G Street, NW., Washington, DC 20552. The telephone number for the Telecommunications Device for the Deaf is (800) 877-8339.

SUPPLEMENTARY INFORMATION: OFHEO invites comments on all aspects of the proposed regulation and will take all comments into consideration before issuing the final regulation. All comments received will be posted without change to http://www.ofheo.gov, including any personal information provided. Copies of all comments received will be available for examination by the public on business days between the hours of 10 a.m. and 3 p.m., at the Office of Federal Housing Enterprise Oversight, Fourth Floor, 1700 G Street NW., Washington, DC 20552. To make an appointment to inspect comments, please call the Office of General Counsel at (202) 414-6924.

Dated: March 18, 2005.
Armando Falcon Jr.,
Director, Office of Federal Housing Enterprise Oversight.

[FR Doc. 05-5776 Filed 3-23-05; 8:45 am]

BILLING CODE 4220-01-P